DEPARTMENT OF COMMERCE

National Institute of Standards and Technology

[Docket Number: 070927542-8456-02]

Voting Equipment Evaluations Phase II

AGENCY: National Institute of Standards and Technology, United States Department of Commerce.

ACTION: Notice; Reopening of submission period.

SUMMARY: The National Institute of Standards and Technology (NIST), United States Department of Commerce, is reopening for 30 days the period for submitting requests and executed letters of understanding from voting equipment manufacturers. NIST is reopening this submission period based on requests received from the manufacturers for an extension of the submission period.

DATE: Submissions must be received no later than May 22, 2008. Submissions received between March 18, 2008 and the date of publication of this notice are deemed to be timely.

ADDRESSES: Requests to participate and executed letters of understanding must be submitted to Mr. Allan Eustis, Information Technology Laboratory, National Institute of Standards and Technology, Mail Stop 8970, Gaithersburg, MD 20899-8970; telephone number (301) 975-5099.

FOR FURTHER INFORMATION CONTACT: Mr. Allan Eustis, Information Technology Laboratory, National Institute of Standards and Technology, Mail Stop 2970, Gaithersburg, MD 20899-2970; telephone number (301) 975-5099.

SUPPLEMENTARY INFORMATION: In the Federal Register of November 19, 2007 (72 FR 65012), NIST solicited interest in Phase II of the benchmark research for voting equipment certified or submitted for certification to the 2005 Voluntary Voting System Guidelines. Interested parties were given until March 18, 2007 to submit executed letters of understanding.

A manufacturer of voting systems submitted a written request for extension due to the current workload for all election manufacturers in the 2008 state primary season leading up to the Presidential election. There was not sufficient time to ascertain details of the Phase II research and respond to the request for an executed letter of understanding. To be responsive to these concerns, and to ensure that the voting system manufacturers have sufficient time to respond to the request, NIST is allowing submission for an additional 30 days.

Dated: April 16, 2008.
James M. Turner,
Deputy Director.

[FR Doc. E8-8681 Filed 4-21-08; 8:45 am]

BILLING CODE 3510-13-P